DEPARTMENT OF COMMERCE

National Oceanic and Atmospheric Administration

[I.D. 070703C]

Marine Mammals; File No. 699-1720

AGENCY: National Marine Fisheries Service (NMFS), National Oceanic and Atmospheric Administration (NOAA), Commerce.

ACTION: Receipt of application.

SUMMARY: Notice is hereby given that Dr. Kathryn Ono, Department of Biological Sciences, University of New England, Marine Sciences Center, 11 Hills Beach Road, Biddeford, ME 04005, has applied in due form for a permit to take harbor seals (Phoca vitulina concolor), gray seals (Halichoerus grypus), harp seals (Phoca groenlandica) and hooded seals (Cystophora cristata) for purposes of scientific research.

DATES: Written or telefaxed comments must be received on or before August 28, 2003.

ADDRESSES: The application and related documents are available for review upon written request or by appointment in the following office(s):

Permits, Conservation and Education Division, Office of Protected Resources, NMFS, 1315 East-West Highway, Room 13705, Silver Spring, MD 20910; phone (301)713-2289; fax (301)713-0376; and

Northeast Region, NMFS, One Blackburn Drive, Gloucester, MA 01930-2298; phone (978)281-9200; fax (978)281-9371

FOR FURTHER INFORMATION CONTACT: Sarah Wilkin or Jennifer Jefferies, (301)713-2289.

SUPPLEMENTARY INFORMATION: The subject permit is requested under the authority of the Marine Mammal Protection Act of 1972, as amended (MMPA; 16 U.S.C. 1361 et seq.), the Regulations Governing the Taking and Importing of Marine Mammals (50 CFR part 216).

The purpose of the research is to assess the health of the Northeast Atlantic harbor seal population residing along the coast of Maine. The permit would authorize the applicant to take up to 200 harbor seals annually by capture, and 20 young of the year pups would be physically restrained and have morphometric measurements, samples of blood, feces, and skin biopsies taken, and flipper tags attached. Annually, 10 pups would have satellite tags attached to allow movement tracking and behavioral analysis. Authorization of 2 accidental mortalities of harbor seals annually is requested. Accidental capture of 5 gray seals, 3 harp seals, and 3 hooded seals annually is also requested. Additionally, annual authorization for Level B Harassment is requested for 400 harbor seals, 5 grey seals, 3 harp seals and 3 hooded seals, annually. The proposed research would study movement and migration patterns for young of the year pups. The movements, disease load, survival and behavior of wild-caught pups will be compared with rehabilitated pups from the same population and cohort to determine baseline “normal” behavior. The Permit would expire 5 years after the date of issuance.

In compliance with the National Environmental Policy Act of 1969 (42 U.S.C. 4321 et seq.), an initial determination has been made that the activity proposed is categorically excluded from the requirement to prepare an environmental assessment or environmental impact statement.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)713-0376, provided the facsimile is confirmed by hard copy submitted by mail and postmarked no later than the closing date of the comment period. Please note that comments will not be accepted by e-mail or by other electronic media.

Concurrent with the publication of this notice in the Federal Register, NMFS is forwarding copies of this application to the Marine Mammal Commission and its Committee of Scientific Advisors.

Dated: July 23, 2003.
Stephen L. Leathery,
Chief, Permits, Conservation and Education Division, Office of Protected Resources, National Marine Fisheries Service.

[FR Doc. 03-19260 Filed 7-28-03; 8:45 am]

BILLING CODE 3510-22-S